FOREIGN CLAIMS SETTLEMENT COMMISSION

[F.C.S.C. Meeting and Hearing Notice No. 03-12]

Sunshine Act Meeting

The Foreign Claims Settlement Commission, pursuant to its regulations (45 CFR part 503.25) and the Government in the Sunshine Act (5 U.S.C. 552b), hereby gives notice in regard to the scheduling of open meetings as follows:

Thursday, March 15, 2012:

10 a.m.—Issuance of Proposed Decisions in Claims Against Libya;

11 a.m.—Oral Hearings on Objection to Commission's Proposed Decisions in Claim No. LIB-II-123;

12 noon—LIB-II-168.

Status: Open.

All meetings are held at the Foreign Claims Settlement Commission, 600 E Street NW., Washington, DC. Requests for information, or advance notices of intention to observe an open meeting, may be directed to: Judith H. Lock, Executive Officer, Foreign Claims Settlement Commission, 600 E Street NW., Suite 6002, Washington, DC 20579. Telephone: (202) 616-6975.

__________________

Jaleh F. Barrett,
Chief Counsel.

[FR Doc. 2012-5653 Filed 3-5-12; 4:15 pm]

BILLING CODE 4410-BA-P